INTERNATIONAL TRADE COMMISSION

Correction to Notice of Receipt of Complaint; Solicitation of Comments Relating to the Public Interest

AGENCY: U.S. International Trade Commission.

ACTION: Correction to notice.

CORRECTION: This notice corrects the supplementary information for DN 2995 entitled Certain Soft-Edged Trampolines and Components Thereof as follows: The complaint alleges violations of section 337 of the Tariff Act of 1930 (19 U.S.C. 1337) in the importation into the United States, the sale for importation, and the sale within the United States after importation of certain soft-edged trampolines and components thereof.

FOR FURTHER INFORMATION CONTACT: Lisa R. Barton, Acting Secretary to the Commission, U.S. International Trade Commission, 500 E Street SW., Washington, DC 20436, telephone (202) 205-2000. The public version of the complaint can be accessed on the Commission's Electronic Document Information System (EDIS) at EDIS,¹ and will be available for inspection during official business hours (8:45 a.m. to 5:15 p.m.) in the Office of the Secretary, U.S. International Trade Commission, 500 E Street SW., Washington, DC 20436, telephone (202) 205-2000.

¹ Electronic Document Information System (EDIS): http://edis.usitc.gov.

General information concerning the Commission may also be obtained by accessing its Internet server at United States International Trade Commission (USITC) at USITC.² The public record for this investigation may be viewed on the Commission's Electronic Document Information System (EDIS) at EDIS.³ Hearing-impaired persons are advised that information on this matter can be obtained by contacting the Commission's TDD terminal on (202) 205-1810.

² United States International Trade Commission (USITC): http://edis.usitc.gov.

³ Electronic Document Information System (EDIS): http://edis.usitc.gov.

By order of the Commission.
Issued: December 30, 2013.
William R. Bishop,
Supervisory Hearings and Information Officer.

[FR Doc. 2013-31485 Filed 1-2-14; 8:45 am]

BILLING CODE 7020-02-P